ENVIRONMENTAL PROTECTION AGENCY

40 CFR Parts 60 and 63

[EPA-HQ-OAR-2009-0234; EPA-HQ-OAR-2011-0044, FRL-9300-1]

RIN 2060-AP52

National Emission Standards for Hazardous Air Pollutants From Coal- and Oil-Fired Electric Utility Steam Generating Units and Standards of Performance for Fossil-Fuel-Fired Electric Utility, Industrial-Commercial-Institutional, and Small Industrial-Commercial-Institutional Steam Generating Units

AGENCY: Environmental Protection Agency (EPA).

ACTION: Proposed rule; Notice of public hearings.

SUMMARY: EPA published in the Federal Register on May 3, 2011, the proposed rule “National Emission Standards for Hazardous Air Pollutants from Coal- and Oil-fired Electric Utility Steam Generating Units and Standards of Performance for Fossil-Fuel-Fired Electric Utility, Industrial-Commercial-Institutional, and Small Industrial-Commercial-Institutional Steam Generating Units.” EPA is announcing three public hearings to be held for the proposed rule.

DATES: The public hearings will be held on May 24, 2011, and May 26, 2011.

ADDRESSES: Public hearings will be held on May 24, 2011, in Chicago, IL, and Philadelphia, PA. The Chicago, IL, hearing will be held at the Crowne Plaza Chicago Metro in Ballroom D located at 733 West Madison Street, Chicago, IL 60611; Telephone: (312) 829-5000. The Philadelphia, PA, hearing will be held at the Westin Philadelphia in the Georgian Room located at 99 South 17th Street at Liberty Place, Philadelphia, PA 19103; Telephone: (888) 627-8153. The May 26, 2011, hearing will be held in the EPA Region IV offices at the Sam Nunn Atlanta Federal Center (AFC) Conference Rooms C and D, 61 Forsyth Street SW., Atlanta, GA 30303-8960; telephone (800) 241-1754. For the Atlanta, GA, hearing, visitors must go through the metal detector, sign in with the security desk, be accompanied by an employee, and will need to show photo identification to enter the building.

The three public hearings will convene at 9 a.m. and continue until 8 p.m. (local time). EPA will make every effort to accommodate all speakers that arrive and register before 8 p.m. A lunch break is scheduled from 12:30 p.m. until 2 p.m. and a dinner break is scheduled from 5 p.m. until 6:30 p.m. during the hearings. The EPA Web Site for the rulemaking, which includes the proposal and information about the public hearings, can be found at: http://www.epa.gov/airquality/powerplanttoxics/actions.html.

FOR FURTHER INFORMATION CONTACT: If you would like to present oral testimony at the public hearing, please contact Ms. Pamela Garrett, U.S. Environmental Protection Agency, Office of Air Quality Planning and Standards, Air Quality Planning Division, (D243-01), Research Triangle Park, NC 27711, telephone (919) 541-7966, fax number (919) 541-5450, e-mail address: garrett.pamela@epa.gov (preferred method for registering), no later than 2 business days prior to each public hearing. The last day to register will be close-of-business Thursday, May 19, 2011, for the Chicago, IL, and Philadelphia, PA, hearings, and Monday, May 23, 2011, for the Atlanta, GA, hearing. If using e-mail, please provide the following information: Time you wish to speak (morning, afternoon, evening), name, affiliation, address, e-mail address, and telephone and fax numbers.

Questions concerning the May 3, 2011, proposed rule should be addressed to Mr. William Maxwell, U.S. EPA, Office of Air Quality Planning and Standards, Energy Strategies Group, (D243-01), Research Triangle Park, N.C. 27711, telephone number (919) 541-5430, e-mail at maxwell.bill@epa.gov for the NESHAP and Mr. Christian Fellner, U.S. EPA, Office of Air Quality Planning and Standards, Energy Strategies Group, (D243-01), Research Triangle Park, N.C. 27711, telephone number (919) 541-4003, e-mail at fellner.christian@epa.gov for the NSPS.

Public hearing: The proposal for which EPA is holding the public hearings was published in the Federal Register on May 3, 2011 and is available at: http://www.epa.gov/airquality/powerplanttoxics/actions.html or http://www.epa.gov/ttn/atw/utility/utilitypg.html and also in the docket identified below. The public hearings will provide interested parties the opportunity to present oral comments regarding EPA's proposed NESHAP standards, including data, views, or arguments concerning the proposal. The EPA may ask clarifying questions during the oral presentations, but will not respond to the presentations at that time. Written statements and supporting information submitted during the comment period will be considered with the same weight as any oral comments and supporting information presented at the public hearing.

Commenters should notify Ms. Garrett if they will need specific equipment, or if there are other special needs related to providing comments at the hearings. EPA will provide equipment for commenters to show overhead slides or make computerized slide presentations if we receive special requests in advance. Oral testimony will be limited to 5 minutes for each commenter. EPA encourages commenters to provide EPA with a copy of their oral testimony electronically (via e-mail or CD) or in hard copy form.

The hearing schedules, including lists of speakers, will be posted on EPA's Web Sites http://www.epa.gov/airquality/powerplanttoxics/actions.html or http://www.epa.gov/ttn/atw/utility/utilitypg.html. Verbatim transcripts of the hearings and written statements will be included in the docket for the rulemaking.

EPA will make every effort to follow the schedule as closely as possible on the day of the hearings; however, please plan for the hearing to run either ahead of schedule or behind schedule.

How can I get copies of this document and other related information?

The EPA has established a docket for the proposed rule “National Emission Standards for Hazardous Air Pollutants from Coal- and Oil-fired Electric Utility Steam Generating Units and Standards of Performance for Fossil-Fuel-Fired Electric Utility, Industrial-Commercial-Institutional, and Small Industrial-Commercial-Institutional Steam Generating Units” under No. EPA-HQ-OAR-2011-0044 (NSPS action) or Docket ID No. EPA-HQ-OAR-2009-0234 (NESHAP action) (available at http://www.regulations.gov).

List of Subjects in 40 CFR Parts 60 and 63

Environmental protection, Administrative practice and procedure, Air pollution control, Hazardous substances, Intergovernmental relations, Reporting and recordkeeping requirements.

Dated: April 25, 2011.
Mary Henigin,
Acting Director, Office of Air Quality Planning and Standards.

[FR Doc. 2011-10283 Filed 4-27-11; 8:45 am]

BILLING CODE 6560-50-P